INTERNATIONAL TRADE COMMISSION

[Investigation No. 337-TA-334]

Certain Condensers, Parts Thereof and Products Containing Same, Including Air Conditioners for Automobiles; Notice of Rescission of Limited Exclusion Order

AGENCY: U.S. International Trade Commission.

ACTION: Notice.

SUMMARY: Notice is hereby given that the U.S. International Trade Commission has rescinded the limited exclusion order previously issued in the above-captioned investigation.

FOR FURTHER INFORMATION CONTACT: Donnette Rimmer, Office of the General Counsel, U.S. International Trade Commission, 500 E Street, SW., Washington, DC 20436, telephone (202) 205-0663.

SUPPLEMENTAL INFORMATION: The authority for the Commission's action is contained in section 337 of the Tariff Act of 1930, as amended (19 U.S.C. 1337), and in section 210.76 of the Commission's rules of Practice and Procedure (19 CFR 210.76).

On August 20, 1997, the Commission issued a limited exclusion order in the investigation based upon a finding that respondents Showa Aluminum Corporation and Showa Aluminum Corporation of America (collectively “Showa”) had violated section 337 of the Tariff Act of 1930, as amended (19 U.S.C. 1337), by importing certain condensers that infringed claims 9 and 10 of U.S. Letters Patent assigned to Modine.

On September 7, 2000, Showa and complainant Modine Manufacturing Company (“Modine”) filed a joint petition to rescind the remedial order under Commission rule 210.76 on the basis of a settlement agreement they had reached. Showa and Modine asserted that their settlement agreement constituted “changed conditions of fact or law” sufficient to justify recission of the order under Commission rule 210.76(a), 19 CFR 210.76(a).

Having reviewed the parties' submissions, the Commission determined that the petition and settlement agreement satisfy the requirements of rule 210.76(a). The Commission therefore issued an order rescinding the limited exclusion order previously issued in the investigation.

Copies of the Commission's order and all other nonconfidential documents filed in connection with this investigation are or will be available for inspection during official business hours (8:45 a.m. to 5:15 p.m.) In the Office of the Secretary, U.S. International Trade Commission, 500 E. Street, SW., DC 20436, telephone (202) 205-2000. Public documents are available for downloading from the Commission's internet server (http://www.usitc.gov). Hearing impaired persons are advised that information on this matter can be obtained by contacting the Commission's TDD terminal at (202) 205-1810.

Issued: October 10, 2000.
By Order of the Commission.
Donna R. Koehnke,
Secretary.

[FR Doc. 00-26747 Filed 10-17-00; 8:45 am]

BILLING CODE 7020-02-P